DEPARTMENT OF ENERGY

Federal Energy Regulatory Commission

[Docket No. EG04-87-000, et al.]

White Pine Electric Power, L.L.C., et al.; Electric Rate and Corporate Filings

September 28, 2004.

The following filings have been made with the Commission. The filings are listed in ascending order within each docket classification.

1. White Pine Electric Power, L.L.C.

[Docket No. EG04-87-000]

Take Notice that on September 27, 2004, White Pine Electric Power, L.L.C. (White Pine) filed with the Commission an amendment to its July 27, 2004, as amended on August 31, 2004, application for determination of exempt wholesale generator status. In the September 27, 2004 filing, White Pine modifies its request concerning authorization to engage in the sale of purified water and compressed air. Comments on the September 27, 2004 filing are due on October 6, 2004.

White Pine's amendment filed on August 31, 2004 was noticed on September 20, 2004 with a comment date of October 12, 2004. By this notice, the date for submitting comments on White Pine's August 31, 2004 amendment is shortened to October 6, 2004.

Comment Date: 5 p.m. Eastern Time on October 6, 2004.

2. Fibrominn LLC

[Docket No. EG04-103-000]

Take notice that on September 24, 2004, Fibrominn LLC (Fibrominn) with a principal place of business at 301 Oxford Valley Road, Makefield Executive Quarters, Suite 704A, Yardley, PA 19067, filed with the Commission an Application for Determination of Exempt Wholesale Generator Status pursuant to Part 365 of the Commission's regulations in connection with Fibrominn's intended leasehold interest in a new 50 MW (nominal) biomass generating facility to be constructed in the City of Benson, Minnesota that is to be owned by PowerMinn 9090, LLC.

Comment Date: 5 p.m. Eastern Time on October 15, 2004.

3. Xcel Energy Services, Inc.

[Docket No. ER99-1610-006]

Take notice that on September 7, 2004, Xcel Energy Services, Inc. (Xcel Energy Inc.) (formerly New Century Services, Inc.) on behalf of Southwestern Public Service Company (SPS) and Golden Spread Electric Cooperative, Inc., pursuant to the Commission's order issued August 5, 2004 Establishing Paper Hearing in the above caption docket, submitted a joint letter indicating that it no longer owns any marketing affiliates that would qualify to make purchases from SPS (or any sister operating companies within the Xcel Energy system). Xcel Energy also states that it has no current plans to establish a new marketing affiliate and that there is no present need to resolve the issue raised in the Remand Order in Golden Spread Electric Cooperative, Inc. v. Federal Energy Regulatory Commission, 319 F.3d 522 (D.C. Circuit 2003) (Remand Order).

Comment Date: 5 p.m. Eastern Time on October 7, 2004.

4. Midwest Independent Transmission System Operator, Inc. and PJM Interconnection, L.L.C.

[Docket No. ER04-375-009]

Take notice that on September 24, 2004, the Midwest Independent Transmission System Operator, Inc. (Midwest ISO) and PJM Interconnection, L.L.C. (PJM), amended their September 7, 2004 compliance filing in Docket No. ER04-375-000 to submit, at the Commission's request, the Joint Operating Agreement Between the Midwest Independent Transmission System Operator, Inc. and PJM Interconnection, L.L.C. (JOA), including the Congestion Management Process (CMP), in its entirety, and to include in the CMP graphics that were inadvertently omitted due to software errors.

PJM states that copies of this filing, including Original Sheet Nos. 225A, 239A, and 242A, and Substitute Original Sheet No. 238, but excluding the full JOA and CMP, were served upon all persons on the official service list compiled by Secretary in this proceeding, as well as all PJM members, and each state electric utility regulatory commission in the PJM regions. PJM will promptly post the complete revised volume of the JOA, including the CMP, on PJM's Web site (http://www.pjm.com) and will deliver a hard copy to any person upon request. PJM also states that it has requested waiver, to the extent required, of Rule 2010(a) to accommodate this request. Service upon the Midwest ISO members and other stakeholders also was requested to be waived; however, the filing is available on the Midwest ISO Internet site (www.midwestiso.org).

Comment Date: 5 p.m. Eastern Time on October 15, 2004.

5. PJM Interconnection, L.L.C.

[Docket Nos. ER04-653-004, ER04-742-002, and ER04-1077-001]

Take notice that on September 24, 2004, PJM Interconnection, L.L.C. (PJM), in compliance with the Commission's order issued September 17, 2004 in Docket No. ER04-1077-000, 108 FERC ¶ 61,246, order issued September 21, 2004 in Docket No. ER04-742-001, 108 FERC ¶ 61,269, and order issued September 22, 2004 in Docket No. ER04-653-002, 108 FERC ¶ 61,307, submitted for filing amendments to the Amended and Restated Operating Agreement of PJM Interconnection, L.L.C. and the PJM Open Access Transmission Tariff to specify the rules for a temporary mitigation measure addressing customers in new PJM transmission zones that do not receive nominated financial transmission rights up to their pre-existing long-term firm transmission contract levels. PJM requests an effective date of May 1, 2004.

PJM states that copies of this filing have been served on all PJM members, the utility regulatory commissions in the PJM region, and all persons on the official service list compiled by the Secretary in this proceeding.

Comment Date: 5 p.m. Eastern Time on October 15, 2004.

6. NEGT Energy Trading—Power, L.P.

[Docket No. ER04-1225-001]

Take notice that on September 24, 2004, NEGT Energy Trading—Power, L.P. (Energy Trading) submitted an amendment to its September 15, 2004 filing of a Notice of Cancellation of its Rate Schedule FERC No. 1.

Comment Date: 5 p.m. Eastern Time on October 15, 2004.

7. Public Service Company of New Hampshire

[Docket No. ER04-1238-000]

Take notice that on September 24, 2004, Northeast Utilities Service Company (NUSCO), on behalf of its affiliate Public Service Company of New Hampshire (PSNH), filed the executed Distribution Interconnection and Operating Agreement (the Agreement) by and between PSNH and Fraser N.H., LLC (Fraser), Great Lakes Hydro America, LLC (GLHA) and White Mountain Energy, LLC (White Mountain and together with Fraser and GLHA, the Non-PSNH Parties). NUSCO states that under the Agreement, the Non-PSNH Parties' existing generating units are, and their proposed new generating unit will be, interconnected to existing 22 kV PSNH radial distribution lines that PSNH has been using to deliver retail electricity to Fraser and its predecessors for decades. NUSCO requests an effective date of September 24, 2004.

NUSCO states that a copy of this filing has been sent to the Non-PSNH Parties and they fully consent to and support this filing.

Comment Date: 5 p.m. Eastern Time on October 15, 2004.

8. Midwest Independent Transmission System Operator, Inc.

[Docket No. ER04-1239-000]

Take notice that on September 24, 2004, the Midwest Independent Transmission System Operator, Inc. (Midwest ISO) submitted for filing a Notice of Succession of certain Transmission Service Agreements and Network Integration Transmission Service and Operating Agreements entered into by and between Illinois Power Company and various transmission customers. The Midwest ISO requests an effective date of October 1, 2004.

Midwest ISO states that it has served a copy of this filing upon the affected customers. In addition, the Midwest ISO has electronically served a copy of this filing, with attachments, upon all Midwest ISO Members, Member representatives of Transmission Owners and Non-Transmission Owners, the Midwest ISO Advisory Committee participants, as well as all state commissions within the region. In addition, the filing has been electronically posted on the Midwest ISO's Web site at http://www.midwestiso.org under the heading “Filings to FERC” for other interested parties in this matter. Midwest ISO also states that it will provide hard copies to any interested parties upon request.

Comment Date: 5 p.m. Eastern Time on October 15, 2004.

9. American Electric Power Service Corporation

[Docket No. ER04-1240-000]

Take notice that on September 24, 2004, the American Electric Power Service Corporation (AEPSC), tendered for filing a Network Integration Transmission Service Agreement for Indiana Municipal Power Agency, designated as Service Agreement No. 567 under the Operating Companies of the American Electric Power System FERC Electric Tariff Third Revised Volume No. 6. AEPSC requests an effective date of September 1, 2004.

AEPSC states that a copy of the filing was served upon the Parties and the state utility regulatory commissions of Indiana, Kentucky, Michigan, Ohio, Tennessee, Virginia and West Virginia.

Comment Date: 5 p.m. Eastern Time on October 15, 2004.

10. PJM Interconnection, L.L.C.

[Docket No. ER04-1243-000]

Take notice that on September 24, 2004, PJM Interconnection, L.L.C. (PJM) submitted amendments to Schedule 2 of the PJM Open Access Transmission Tariff to incorporate the revenue requirements for Reactive Supply and Voltage Control From Generation Sources Service (Reactive Power) for Midwest Generation, LLC (MWGen), Duke Energy Lee, LLC (Duke Lee), Fairless Energy, LLC (Fairless Energy), PPL University Park, LLC (PPL-UP), Conectiv Bethlehem, LLC (CBLLC) and Calpine Energy Services, LP (CES), and to correct minor typographical errors.

PJM states that copies of this filing have been served on all PJM members, including MWGen, Duke Lee, Fairless Energy, CES, PPL-UP, and CBLLC, and each state electric utility regulatory commission in the PJM region.

Comment Date: 5 p.m. Eastern Time on October 15, 2004.

11. NorthPoint Energy Solutions Inc.

[Docket No. ER04-1244-000]

Take notice that on September 24, 2004, NorthPoint Energy Solutions Inc. tendered for filing a request for: (1) Approval of its FERC Rate Schedule No. 1 for the sale of electric energy and capacity at market-based rates, (2) approval of the waiver of certain Commission regulations, and (3) approval of certain waivers of the Commission's regulations. NorthPoint requests an effective date of December 1, 2004.

Comment Date: 5 p.m. Eastern Time on October 15, 2004.

12. Fibrominn LLC

[Docket No. ER04-1245-000]

Take notice that on September 24, 2004, Fibrominn LLC, (Fibrominn) tendered for filing a request for: (1) Approval of its Rate Schedule No. 1 authorizing it to engage in sales at market-based rates, (2) approval of certain waivers of the Commission regulations, and (3) approval of certain blanket authorizations in connection with a facility to be built in Benson, Minnesota.

Comment Date: 5 p.m. Eastern Time on October 15, 2004.

13. Midwest Generation, LLC

[Docket No. ER04-1246-000]

Take notice that on September 24, 2004 Midwest Generation, LLC (MWGen) tendered for filing a Notice of Cancellation of its FERC Electric Tariff, Original Volume No. 4, to be effective October 1, 2004.

MWGen states that copies of the filing were served upon Commonwealth Edison Company and PJM Interconnection, L.L.C.

Comment Date: 5 p.m. Eastern Time on October 15, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2497 Filed 10-5-04; 8:45 am]

BILLING CODE 6717-01-P